DEPARTMENT OF DEFENSE

Department of the Air Force

Addendum to the 26 June 2014 Record of Decision for the Final Environemntal Impact Statement F-35 Beddown at Eglin Air Force Base, Florida

AGENCY: Department of the Air Force, Department of Defense.

ACTION: Notice of availability.

SUMMARY: On April 19, 2019, the United States Air Force signed an Addendum to the 26 June 2014 Record of Decision for the Final F-35 Beddown Supplemental Environmental Impact Statement (SEIS). This Addendum to the 26 June 2014 Record of Decision (AROD) documents the Air Force's decision regarding temporarily shifting the primary runway to Runway 01/19 (RW 01/19) and allowing short-term increases in previously limited operations for construction-related closure of Runway 12/30 (RW 12/30).

ADDRESSES: For questions rearding this AROD please contact: Mr. Mike Spaits, Eglin AFB Public Affairs Office, 96 TW/PA, 101 West D Avenue, Room 238, Eglin AFB, FL 32542-5499; telephone: (850) 882-2836; or email: spaitsm@eglin.af.mil.

SUPPLEMENTARY INFORMATION: This AROD augments the ROD signed on 26 June 2014, for an approximately forty-five day period of RW 12/30 closure for necessary construction planned for April 19, 2019 to June 3, 2019.

The Final SEIS was made available to the public on February 28, 2014 through a NOA in the Federal Register (Volume 79, Number 40, Page 11428) with a wait period that ended on March 31, 2014. The 26 June 2014 SEIS ROD was made available to the public, through a NOA in the Federal Register (Volume 79, Number 131, Page 38857), on July 9, 2014.

Authority: This NOA is published pursuant to the relevant subsection of the regulations (40 CFR part 1506.6(b)2)) implementing the provisions of the NEPA of 1969 (42 U.S.C. 4321, et seq.) and the relevant subsections of the Air Force's Environmental Impact Analysis Process (EIAP) (32 CFR parts 989.21(b) and 989.24(b)(7)).

Carlinda N. Lotson,
Air Force Federal Register Liaison Officer.

[FR Doc. 2019-09312 Filed 5-6-19; 8:45 am]

BILLING CODE 5001-10-P